DEPARTMENT OF ENERGY

Federal Energy Regulatory Commission

[Docket No. PR01-14-000]

Enogex, Inc; Notice of Petition for Rate Approval

May 11, 2001.

Take notice that on May 1, 2001, Enogex, Inc. (Enogex) filed a Petition for Rate Approval (Petition) pursuant to Section 284.123(b)(2) of the Commission's regulations, 18 CFR 284.123(b)(2). In the Petition, Enogex requests that the Commission approve a rate for interruptible transportation service under Section 311(a)(2) of the Natural Gas Policy Act of $0.4866 per MMBtu. Enogex states that this combined rate replaces the separate charges for compression and transmission that the Commission had previously approved. No further change is proposed to the fuel retention percentages, since they are currently under consideration by the Commission in Docket No. PR01-6-000.

Pursuant to Section 284.123(b)(2)(ii) of the Commission's regulations, if the Commission does not act within 150 days of the Petition's filing date, the rates proposed therein will be deemed to be fair and equitable and not in excess of an amount that interstate pipelines would be permitted to charge for similar services. The Commission may, prior to the expiration of the 150-day period, extend the time for action or institute a proceeding to afford parties an opportunity for written comments and for the oral presentation of views, data and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before May 29, 2001. This petition for rate approval is on file with the Commission and is available for public inspection. This filing may be viewed on the web at http://www.ferc.fed.us/online/rims.htm (call 202-208-2222 for assistance). Comments, protests, and interventions may be filed electronically via the internet in lieu of paper. See, 18 CFR 385.200(a)(1)(iii) and the instruction on the Commission's web site at http://www.ferc.fed.us.efi/doorbell.htm.

David P. Boergers,
Secretary.

[FR Doc. 01-12398 Filed 5-16-01; 8:45 am]

BILLING CODE 6717-01-M